DEPARTMENT OF THE INTERIOR

Bureau of Land Management

[AZ-020-00-1430-EU; AZA-31774FD]

Termination of Segregation; Opening Order; Arizona, Correction

AGENCY: Bureau of Land Management, Interior.

Correction: In the correction notice issued in Volume 68 Number 39 beginning on page 9096 in the issue dated February 27, 2003, make the following correction: On page 9096, the heading, Notice of Realty Action; “Recreation and Public Purposes (R&PP) Act Classification;” should read as set forth above.

Dated: March 4, 2003.
MarLynn Spears,
Acting Field Manager, Phoenix Field Office.

[FR Doc. 03-5578 Filed 3-7-03; 8:45 am]

BILLING CODE 4310-32-P